AGENCY FOR INTERNATIONAL DEVELOPMENT

2024 USAID Diversity, Equity, Inclusion, and Accessibility Bi-Annual Survey

AGENCY: United States Agency for International Development (USAID).

ACTION: Notice of information collection; request for comment.

SUMMARY: The 2024 USAID DEIA survey will utilize workforce data to establish metrics in diversity, equity, inclusion, and accessibility (DEIA), enable long-term evaluation at all levels, and, by comparing this version with the pilot survey, identify areas for improvement.

DATES: Written comments and recommendations for the proposed information collection should be sent within 30 days of publication of this notice to www.reginfo.gov/public/do/PRAMain. Find this particular information collection by selecting “Currently under 30-day Review—Open for Public Comments” or by using the search function.”

FOR FURTHER INFORMATION CONTACT: For specific questions related to collection activities, please contact Yasmine Taylor Hart, 202-712-5590 or email at ythart@usaid.com.

SUPPLEMENTARY INFORMATION: Pursuant to 5 CFR 1320.13, the Agency submitted a request for emergency approval of new information collection from the agency's workforce on DEIA, including U.S. Direct Hires (permanent and temporary) U.S. Personal Services Contractors, Institutional Support Contractors, Cooperating Country Nationals, and other expanded demographic categories in 6 main areas on a 5-point Likert scale, including 13 diversity questions, 7 equity questions, 13 accessibility questions, and 29 talent impact questions.

Description of Proposed Use of Information

The information will be collected via a digital survey and used by the workforce to capture the viewpoints and perceptions of USAID headquarters and overseas employees across all staffing mechanisms and at all grades and ranks; allow for data disaggregation by Bureau, Independent Office, and Mission; provide data for analysis to support evidence-based and data-driven approaches to determine whether and to what extent Agency policies programs, and practices present barriers to equal and equitable and opportunities and employment outcomes and what needs to be changed or developed to remove said barriers; and to support USAID efforts to monitor and report on DEIA and EEO program effectiveness, enabling continuous program improvement.

Based on the pilot survey, distributed in 2022, this survey includes minor updates to sections about demographics, sexual orientation and gender identity (SOGI), and sexual misconduct. The 2024 survey will compare results with the pilot survey to find areas for improvement. It also will gather information from the Agency workforce allowing USAID to establish a baseline for DEIA-related metrics, create a more inclusive working environment, and promote long-term evaluation at the Agency level and within Missions, Bureaus, and Independent Offices (M/B/IOs).

Time Burden

OMB's approval enables USAID to engage 11,000 respondents. Each respondent will be able to provide 20 minutes in participation time, totaling 3,667 estimated time burden of this proposed information collection.

Yasmine Taylor-Hart,
Management Analyst.

[FR Doc. 2024-25408 Filed 10-31-24; 8:45 am]

BILLING CODE P